DEPARTMENT OF LABOR

Office of the Secretary

Agency Information Collection Activities; Submission for OMB Review; Comment Request; Job Clubs Study

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed ICR can be obtained by contacting the office listed below in the addressee section of this notice or by accessing: http://www.doleta.gov/OMBCN/OMBControlNumber.cfm.

DATES: Written comments must be submitted to the office listed in the addressee section below on or before March 28, 2013.

ADDRESSES: You may submit comments by either one of the following methods: Email: CFBNP@dol.gov; Mail or Courier: Center for Faith-Based and Neighborhood Partnerships, U.S. Department of Labor, Room S-2521, 200 Constitution Avenue NW., Washington, DC 20210. Instructions: Please submit one copy of your comments by only one method. All submissions received must include the agency name and Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Ben Seigel by telephone at 202-693-6032 (this is not a toll-free number) or by email at CFBNP@dol.gov.

SUPPLEMENTARY INFORMATION:

I. Background

Over the past several decades, job search support groups, commonly referred to as “job clubs” have evolved into one of several important activities used by the public workforce system and community-based organizations to enhance worker readiness and employability, as well as to provide ongoing support to unemployed and underemployed individuals as they search for jobs. While many job clubs are formally run through the public workforce system—including at Department of Labor funded American Job Centers—they have especially expanded in recent years through faith-based organizations, such as church ministries; volunteer-run networking groups that meet at coffee shops or public libraries; and online networking sites such as LinkedIn.

There have been past evaluations of the effects of job clubs sponsored by the public sector on job placement, but there has been little assessment and/or empirical study of volunteer-run job clubs and job search support groups sponsored by faith-based and community-based organizations. For example, during the 1980s, there was a great deal of interest in job clubs to help a wide variety of unemployed workers, including older workers, welfare recipients, and formerly incarcerated individuals. A number of evaluations found that job clubs had a large and significant impact on speeding up participants' return to work. While it would seem likely that volunteer-run job clubs and those offered through faith-based and community-based organizations could have similar effects in terms of speeding the return to work for unemployed individuals, there have been few (if any) rigorous empirical research studies completed on this subject. There have, however, been some qualitative studies completed on the role of community-based and faith-based organizations in providing employment and training services. For example, a 2001 study for the Department of Labor documented and assessed the role of faith-based organizations in providing employment and training services, based in part on interviews conducted by telephone with faith-based organizations. This study broadly assessed the role of these organizations in delivering such services, with a focus on the role of faith-based organizations in providing job readiness workshops, job clubs, and other types of assistance to help unemployed individuals find jobs.

Site visits to six organizations sponsoring job clubs is the focus of this ICR aimed at: (1) Systematically describing the key characteristics of the volunteer-run groups and other new types of job clubs being offered across a range of communities; (2) documenting how they differ from and are similar to the job clubs operated by publicly-funded workforce agencies (such as the American Job Centers); and (3) identifying promising practices that might warrant more rigorous formal evaluation of individual impacts and effectiveness. The proposed data collection effort is necessary to fill a gap in existing knowledge about the extent, characteristics, and effectiveness of volunteer-led and faith-based and community-based organizations' sponsorship of job clubs for unemployed and underemployed workers.

The period of performance of this effort is 12 months, ending September 13, 2013. The overall budget is $299,784.44. The contractor is Capital Research Corporation with a subcontract to George Washington University.

II. Desired Focus of Comments

Currently, the Department of Labor is soliciting comments concerning the above data collection for the Job Clubs Study. Comments are requested to:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

II. Current Actions

At this time, the Department of Labor is requesting clearance for Job Clubs site visits.

Type of review: New information collection request.

OMB Number: None.

Affected Public: Employees, volunteers, and/or members associated with six job clubs and their partner organizations.

Cite/Reference/Form/etc.: The Center for Faith-Based and Neighborhood Partnerships and its activities are guided by Executive Order 13279 (December 12, 2002), “Equal Protection of the Laws for Faith-Based and Community Organizations” and Executive Order 13559 (November 17, 2010), “Fundamental Principles and Policymaking Criteria for Partnerships with Faith-Based and Other Neighborhood Organizations.”

For the Job Clubs site visits:

Frequency: Once.

Total Responses: 48.

Average Time per Response: 3 hours.

Estimated Total Burden Hours: 144 hours.

Total Burden Cost: $3,355(144 hours at $23.30* per hour).

Note that, due to rounding, the numbers for the totals may differ from the sum of the component numbers.

*U.S. Department of Labor, Bureau of Labor Statistics, Table B-3. Average hourly and weekly earnings of all employees on private nonfarm payrolls by industry sector, seasonally adjusted (accessed from the following Web site as of September 2012: http://www.bls.gov/webapps/legacy/cesbtab3.htm))

Comments submitted in response to this request will be summarized and/or included in the request for Office of Management and Budget approval; they will also become a matter of public record.

Signed at Washington, DC, this 21st day of February 2013.
Irasema Garza,
Acting Assistant Secretary for Policy, U.S. Department of Labor.

[FR Doc. 2013-04391 Filed 2-25-13; 8:45 am]

BILLING CODE 4510-23-P